DEPARTMENT OF THE INTERIOR

[Docket No. ONRR-2012-0003; DS63602000 DR2000000.PX8000 167D0102R2]

Public Outreach Regarding Oil, Gas and Coal Data for Montana and Louisiana

AGENCY: Office of the Secretary, Interior.

ACTION: Notice.

SUMMARY: This notice announces public outreach sessions/webinars regarding data that is available online about oil, gas, coal, and other mineral production and revenue in the states of Montana and Louisiana. The data is available through a data portal established by the U.S. Extractive Industries Transparency Initiative (USEITI) specifically to increase transparency of this information. The data portal is available at https://useiti.doi.gov/.

DATES: The public outreach sessions/webinars dates are:

Session 1—Helena, Montana, October 5, 2016

Session 2—Browning, Montana, October 6, 2016

Session 3—Shreveport, Louisiana, October 19, 2016

ADDRESSES: Session 1 will be held at the Montana State Capitol, 1306 E 6th Avenue, Room 172, Helena, Montana 59601, from 2:00-5:00 p.m. local time; Session 2 will be held at the Blackfeet Agency Bureau of Indian Affairs, (Bureau of Indian Affairs, 531 SE Boundary Street, Browning, MT 59417), 5:00-7:00 p.m. local time; and Session 3 will be at the Shreveport Convention Center, Red River Board Room, 400 Caddo Street, Shreveport, Louisiana 71101, from 6:00-8:00 p.m. local time. Members of the public may attend in person or view documents and presentations under discussion via Live Meeting Net Conference at https://www.mymeetings.com/nc/join/. If joining via Live Meeting Net Conference: Enter conference number PWXW9795965 and audience passcode 7741096, and listen to the proceedings at telephone number 1-888-455-2910 and international toll number 210-839-8953 (passcode: 7741096).

FOR FURTHER INFORMATION CONTACT: Judith Wilson, USEITI Secretariat; 1849 C Street NW., MS 4211, Washington, DC 20240. You may also contact the USEITI Secretariat via email at useiti@ios.doi.gov, by phone at 202-208-0272 or by fax at 202-513-0682.

SUPPLEMENTARY INFORMATION: The U.S. Department of the Interior established the USEITI Advisory Committee (Committee) on July 26, 2012, to oversee the domestic implementation of this voluntary, global initiative designed to increase transparency and accountability in the governance of extractive industries revenue management. More information about the Committee, including its charter, and public meetings can be found at www.doi.gov/eiti/faca.

The public outreach sessions/webinars will provide the public awareness of EITI and its benefits, and demonstrate the interactive on-line annual USEITI Report. The USEITI Report can be found at https://useiti.doi.gov/. This session will also provide an opportunity for public comment on the Annual USEITI Report.

Background: In September 2011, President Barack Obama announced the United States' commitment to participate in the Extractive Industries Transparency Initiative. Implementing EITI is a signature initiative of the U.S. National Action Plans for an Open Government Partnership. EITI offers a voluntary framework for companies and governments to publicly disclose in parallel the revenues paid and received for extraction of oil, gas, and minerals. The design of each framework is country-specific and is developed through a multi-year, consensus-based process by a multi-stakeholder group comprised of government, industry, and civil society representatives. President Obama named the Secretary of the Interior the U.S. Senior Official responsible for implementing USEITI. The U.S. achieved Candidate Country status on March 14, 2014. USEITI published its First Annual Report on December 16, 2015. For further information on EITI, please visit the USEITI Web page at http://www.doi.gov/EITI.

Dated: September 9, 2016.
Gregory Gould,
Director, Office of Natural Resources Revenue.

[FR Doc. 2016-22632 Filed 9-19-16; 8:45 am]

BILLING CODE 4335-30-P